DEPARTMENT OF ENERGY

Federal Energy Regulatory Commission

[Project No. 1494-432]

Grand River Dam Authority; Notice of Application for Temporary Variance and Soliciting Comments, Motions To Intervene, and Protests

Take notice that the following hydroelectric application has been filed with the Commission and is available for public inspection:

a. Application Type: Temporary variance from the Article 401 reservoir elevation rule curve in order to keep reservoir levels in the Grand Lake O' the Cherokees (Grand Lake) higher than normal from August 15, 2015 through October 31, 2015.

b. Project No.: 1494-432.

c. Date Filed: July 30, 2015.

d. Applicant: Grand River Dam Authority (GRDA).

e. Name of Project: Pensacola Hydroelectric Project.

f. Location: The project is located on the Grand River in Craig, Delaware, Mayes, and Ottawa Counties, Oklahoma.

g. Filed Pursuant to: Federal Power Act, 16 U.S.C. 791(a)-825(r).

h. Applicant Contact: Daniel S. Sullivan, Chief Executive Officer, Grand River Dam Authority, P.O. Box 409, Vinita, OK 74301; telephone: (918) 256-5545.

i. FERC Contact: B. Peter Yarrington, telephone: (202) 502-6129, and email address: peter.yarrington@ferc.gov.

j. Deadline for filing comments, motions to intervene, and protests is 10 days from the issuance date of this notice by the Commission.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail a copy to: Kimberly D. Bose, Secretary, Federal Energy Regulatory Commission, 888 First Street NE., Washington, DC 20426. Please include the project number (P-1494-432) on any comments or motions filed.

k. Description of Request: GRDA requests a temporary variance to deviate from the reservoir elevation rule curve stipulated under Article 401 of the project license. GRDA says the requested variance would improve public recreational opportunities, increase public safety at Grand Lake, assist in managing dissolved oxygen levels at the project and other downstream projects, and provide a cushion against a potential late-summer drought. Specifically, GRDA proposes to modify the existing rule curve between the dates of August 16 and October 31, 2015. Between August 16 and September 15, the reservoir would be maintained at elevation 743 feet Pensacola Datum (PD) which is up to two feet higher than the current rule curve. Between September 16 and September 30, the elevation would be lowered from 743 to 742 feet PD. Between October 1 and October 31, the reservoir would be maintained at elevation 742 feet PD which is up to one foot higher than the current rule curve. After October 31, reservoir elevations would be identical to the existing rule curve. GRDA also requests to deviate from the reservoir elevations under the rule curve and release 0.03 and 0.06 feet of water per day, regardless of reservoir levels authorized under this variance, to comply with dissolved oxygen (DO) requirements in Article 403 of the license. In addition, GRDA proposes to implement an adaptive management plan with resource agencies and stakeholders to address concerns in the event of a drought or high precipitation that may occur during the variance period. The proposed temporary variance and procedures for DO enhancement would end on November 1, 2015.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. A copy is also available for inspection and reproduction at the address in item (h) above.

You may also register online at http://www.ferc.gov/docs-filing/esubscription.asp to be notified via email of new filings and issuances related to this or other pending projects. For assistance, contact FERC Online Support.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 31, 2015.
Nathaniel J. Davis, Sr.,
Deputy Secretary.

[FR Doc. 2015-19309 Filed 8-5-15; 8:45 am]

BILLING CODE 6717-01-P